DEPARTMENT OF VETERANS AFFAIRS

[OMB Control No. 2900-0422]

Agency Information Collection Activity Under OMB Review: Acquisition Regulation (VAAR) Construction Provisions and Clauses 852.236-72, 852.236.80, 852.236-82, 852.236-83, 852.236-84 and 852.236-88

AGENCY: The Office of Management (OM), Department of Veterans Affairs.

ACTION: Notice.

SUMMARY: In compliance with the Paperwork Reduction Act (PRA) of 1995, this notice announces that the Office of Management (OM), Department of Veterans Affairs, will submit the collection of information abstracted below to the Office of Management and Budget (OMB) for review and comment. The PRA submission describes the nature of the information collection and its expected cost and burden and it includes the actual data collection instrument.

DATES: Comments must be submitted on or before November 6, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0422” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0422” in any correspondence.

SUPPLEMENTARY INFORMATION:

Authority: Public Law 104-13; 44 U.S.C. 3501-3521.

Title: Department of Veteran Affairs Acquisition Regulation (VAAR) Clauses 852.236-72, 852.236.80, 852.236-82, 852.236-83, 852.236-84 and 852.236-88.

OMB Control Number: 2900-0422.

Type of Review: Extension of a currently approved collection.

Abstract: This collection of information contains the following six collections of information for the following Department of Veterans Affairs Acquisition Regulation (VAAR) clauses: (1) VAAR clause 852.236-72, Performance of Work by the Contractor, requires contractors awarded a construction contract containing Federal Acquisition Regulation (FAR) clause 52.236-1, Performance of Work by the Contractor, to submit a statement designating the branch or branches of contract work to be performed by the contractor's own forces. The FAR clause requires the contractor to perform a minimum percentage of the work under the contract with its own forces. This VAAR clause implements this FAR clause by requiring the contractor to provide information to the contracting officer on just how the contractor intends to fulfill this contractual obligation. The information is used by the contracting officer to ensure that the contractor complies with the contract requirements; (2) VAAR clause 852.236-80, Subcontracts and Work Coordination requires construction contractors, on contracts involving complex mechanical-electrical work, to furnish coordination drawings showing the manner in which utility lines will fit into available space and relate to each other and to the existing building elements. The intent of this information is to promote carefully planned work sequencing and proper trade coordination on construction contracts, to assure expeditious solutions to problems, and to avoid or minimize additional costs to the contractor and the Government. The information is used by the contracting officer and the VA engineer assigned to the project to resolve any problems relating to the installation of utilities on construction contracts; (3) VAAR clause 852.236-84, Schedule of Work Progress, requires construction contractors, on contracts that do not require the use of a NAS, to submit a progress schedule. The information is used by the contracting officer to track the contractor's progress under the contract and to determine whether or not the contractor is making satisfactory progress (4) VAAR clause 852.236-88, Contract Changes, supplements FAR clause 52.243-4, Changes. FAR clause 52.243-4 authorizes the contracting officer to order changes to a construction contract but does not specifically require the contractor to submit cost proposals for those changes. VAAR clause 852.236-88 requires contractors to submit cost proposals for changes ordered by the contracting officer or for changes proposed by the contractor. This information is needed to allow the contracting officer and the contractor to reach a mutually acceptable agreement on how much to pay the contractor for the proposed changes to the contract. It is also used by the contracting officer to determine whether or not to authorize the proposed changes or whether or not additional or alternate changes are needed; (5) VAAR clause 852.236-82, Payments under Fixed-Price Construction Contracts (without NAS-CPM), with its Alternate I, requires construction contractors to submit a schedule of costs for work to be performed under the contract. In addition, if the contract includes guarantee period services, Alternate I, requires the contractor to submit information on the total and itemized costs of the guarantee period services and to submit a performance plan/program. The information is needed to allow the contracting officer to determine the correct amount to pay the contractor as work progresses and to properly proportion the amount paid for guarantee period services. The information is used by the contracting officer to determine the correct amount to pay the contractor; (6) VAAR clause 852.236-83, Payments under Fixed-Price Construction Contracts (including NAS-CPM), with its Alternate I, requires construction contractors to submit a schedule of costs for work to be performed under the contract. In addition, if the contract includes guarantee period services, Alternate I, requires the contractor to submit information on the total and itemized costs of the guarantee period services and to submit a performance plan/program. The information is needed to allow the contracting officer to determine the correct amount to pay the contractor as work progresses and to properly proportion the amount paid for guarantee period services. The contracting officer uses the information to determine the correct amount to pay the contractor. The difference between this clause and the one above, 852.236-83, is that this clause requires the contractor to use a computerized Network Analysis System (NAS) to prepare the cost estimate. The Information is necessary for the Department of Veterans Affairs to administer construction contracts and to carry out its responsibility to construct, maintain, and repair real property for the department.

An agency may not conduct or sponsor, and a person is not required to respond to a collection of information unless it displays a currently valid OMB control number. The Federal Register Notice with a 60-day comment period soliciting comments on this collection of information was published at Vol. 82, No. 142/Wednesday, July 26, 2017, pages 34746 and 34747.

Affected Public: Business or other for profit and not-for-profit institutions.

Estimated Annual Burden:

a. Clause 852.236-72, Performance of Work by the Contractor—60 hours.

b. Clause 852.236-80, Subcontracts and Work Coordination—920 hours.

c. Clause 852.236-84, Schedule of Work Progress—1,828.5 hours.

d. Clause 852.236-88, Contract Changes—729 hours.

e. Clause 852.236-82, Payments under Fixed-Price Construction Contracts (without NAS-CPM), with its Alternate I—1219 hours.

f. Clause 852.236.83, Payments under Fixed-Price Construction Contracts (including NAS-CPM), with its Alternate I—46 hours.

Estimated Average Burden per Respondent:

g. Clause 852.236-72, Performance of Work by the Contractor—1 hour.

h. Clause 852.236-80, Subcontracts and Work Coordination—10 hours.

i. Clause 852.236-84, Schedule of Work Progress—1 hour.

j. Clause 852.236-88, Contract Changes—3 hours.

k. Clause 852.236-82, Payments under Fixed-Price Construction Contracts (without NAS-CPM), with its Alternate I—1 hour.

l. Clause 852.236-83, Payments under Fixed-Price Construction Contracts (including NAS-CPM), with its Alternate I—.5 hours.

Frequency of Response: On occasion.

Estimated Number of Respondents:

a. Clause 852.236-72, Performance of Work by the Contractor—60.

b. Clause 852.236-80, Subcontracts and Work Coordination—92.

c. Clause 852.236-84, Schedule of Work Progress—1,219.

d. Clause 852.236-88, Contract Changes—243.

e. Clause 852.236-82, Payments under Fixed-Price Construction Contracts (without NAS-CPM), with its Alternate I—1,219.

f. Clause 852.236-83, Payments under Fixed-Price Construction Contracts (including NAS-CPM), with its Alternate I—92.

By direction of the Secretary.
Cynthia Harvey-Pryor,
Department Clearance Officer, Office of Quality, Privacy and Risk, Department of Veterans Affairs.

[FR Doc. 2017-21434 Filed 10-4-17; 8:45 am]

BILLING CODE 8320-01-P